DEPARTMENT OF LABOR

Employment and Training Administration

[TA-W-38,049]

Puget Plastics Corporation, Tualatin, Oregon; Notice of Termination of Investigation

Pursuant to Section 221 of the Trade Act of 1974, an investigation was initiated on September 5, 2000, in response to a petition filed by a company official on behalf of workers at Puget Plastics Corporation, Tualatin, Oregon.

The petitioner has requested that the petition be withdrawn. Consequently, further investigation in this case would serve no purpose, and the investigation has been terminated.

Signed at Washington, DC this 31st day of January 2001.
Linda G. Poole,
Certifying Officer, Division of Trade Adjustment Assistance.

[FR Doc. 01-5082 Filed 3-1-01; 8:45 am]

BILLING CODE 4510-30-M